DEPARTMENT OF ENERGY

Federal Energy Regulatory Commission

[Project No. 3525-002]

Bolthouse Properties, LLC, Desert Power Company; Notice of Transfer of Exemption

1. By letter filed November 27, 2013, Bolthouse Properties, LLC informed the Commission that the exemption from licensing for the Cottonwood Canyon Ranch Hydroelectric Project, FERC No. 3525, originally issued March 5, 1982,¹ has been transferred to Desert Power Company. The project is located on the existing Cottonwood Canyon and Lone Tree Canyon aqueducts in Mono County, California. The transfer of an exemption does not require Commission approval.

¹ 18 FERC ¶ 62,392, Order Granting Exemption from Licensing for a Conduit Hydroelectric Project (1982).

2. Desert Power Company is now the exemptee of the Cottonwood Canyon Ranch Hydroelectric Project, FERC No. 3525. All correspondence should be forwarded to: Mr. Steve West, Desert Power Company, P.O. Box 609, Rock Springs, WY 82902.

Dated: May 15, 2014.
Kimberly D. Bose,
Secretary.

[FR Doc. 2014-11872 Filed 5-21-14; 8:45 am]

BILLING CODE 6717-01-P